DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act (Pub. L. 92-463, 86 Stat. 770) requires that public notice of this meeting be announced in the Federal Register.

DATES:

Monday, September 21, 2015 1:00 p.m.-5:00 p.m.

Tuesday, September 22, 2015 8:30 a.m.-4:30 p.m.

ADDRESSES: New Ellenton Community Center, 212 Pine Hill Avenue, New Ellenton, SC 29809.

FOR FURTHER INFORMATION CONTACT: de'Lisa Carrico, Office of External Affairs, Department of Energy, Savannah River Operations Office, P.O. Box A, Aiken, SC, 29802; Phone: (803) 952-8607.

SUPPLEMENTARY INFORMATION: Purpose of the Board: The purpose of the Board is to make recommendations to DOE-EM and site management in the areas of environmental restoration, waste management, and related activities.

Tentative Agenda

Monday, September 21, 2015

1:00 p.m. Opening and Agenda Review

1:20 p.m. Work Plan Update

1:30 p.m. Combined Committees Session

Order of committees:

• Facilities Disposition & Site Remediation

• Administrative & Outreach

• Strategic & Legacy Management

• Waste Management

• Nuclear Materials

4:45 p.m. Public Comments Session

5:00 p.m. Adjourn

Tuesday, September 22, 2015

8:30 a.m. Opening, Pledge, Chair Update, and Agenda Review

8:55 a.m. Agency Updates

10:00 a.m. Public Comment

10:15 a.m. Break

10:30 a.m. Waste Management Committee Report

11:15 a.m. Administrative & Outreach Committee Report

11:30 a.m. Public Comment

11:45 a.m. Lunch Break

1:15 p.m. Facilities Disposition & Site Remediation Committee Report

2:15 p.m. Break

2:30 p.m. Nuclear Materials Committee Report

3:15 p.m. Strategic & Legacy Management Committee Report

4:15 p.m. Public Comment

4:30 p.m. Adjourn

Public Participation: The EM SSAB, Savannah River Site, welcomes the attendance of the public at its advisory committee meetings and will make every effort to accommodate persons with physical disabilities or special needs. If you require special accommodations due to a disability, please contact de'Lisa Carrico at least seven days in advance of the meeting at the phone number listed above. Written statements may be filed with the Board either before or after the meeting. Individuals who wish to make oral statements pertaining to agenda items should contact de'Lisa Carrico's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling de'Lisa Carrico at the address or phone number listed above. Minutes will also be available at the following Web site: http://cab.srs.gov/srs-cab.html.

Issued at Washington, DC on August 26, 2015.
LaTanya R. Butler,
Deputy Committee Management Officer.

[FR Doc. 2015-21734 Filed 9-1-15; 8:45 am]

BILLING CODE 6450-01-P